FEDERAL COMMUNICATIONS COMMISSION

47 CFR Parts 0, 1, and 54

[WC Docket Nos. 11-42, 03-109, 12-23 and CC Docket No. 96-45; Report No. 2948]

Lifeline and Link Up Reform and Modernization; Advancing Broadband Availability Through Digital Literacy Training, et al.

AGENCY: Federal Communications Commission.

ACTION: Final rule; petition for reconsideration.

SUMMARY: In this document, Petitions for Reconsideration (Petitions) have been filed in the Commission's Rulemaking proceeding concerning rules that comprehensively reform and modernize the Lifeline program to strengthen protections against waste, fraud and abuse; improve program administration and accountability; improve enrollment and consumer disclosures; initiate modernization of the program for broadband; and constrain the growth of the program.

DATES: Oppositions to the Petitions must be filed by May 7, 2012. Replies to an opposition must be filed May 15, 2012.

ADDRESSES: Federal Communications Commission, 445 12th Street SW., Washington, DC 20554.

FOR FURTHER INFORMATION CONTACT: Kim Scardino or Garnet Hanly, Wireline Competition Bureau, (202) 418-1500 or TTY: (202) 418-0484.

SUPPLEMENTARY INFORMATION: This is a summary of Commission's document, Report No. 2948, released April 5, 2012. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Lifeline and Link Up Reform and Modernization; Advancing Broadband Availability through Digital Literacy Training, et al., published at 77 FR 12952, March 2, 2012 in WC Docket Nos. 11-42, 03-109, 12-23 and CC Docket No. 96-45, and published pursuant to 47 CFR 1.429(e). See 1.4(b)(1) of the Commission's rules (47 CFR 1.4(b)(1)).

Number of Petitions Filed: 8.

Federal Communications Commission.
Marlene H. Dortch,
Secretary, Office of the Secretary, Office of Managing Director.

[FR Doc. 2012-9586 Filed 4-19-12; 8:45 am]

BILLING CODE 6712-01-P